DEPARTMENT OF TRANSPORTATION

Federal Railroad Administration

[Docket Number FRA-2009-0074]

Petition for Waiver of Compliance

In accordance with Part 211 of Title 49 Code of Federal Regulations, this document provides the public notice that by a document dated October 14, 2014, the Canadian National Railway Company (CN), Brotherhood of Locomotive Engineers and Trainmen (BLET), and International Association of Sheet Metal, Air, Rail and Transportation Workers (SMART), have jointly petitioned the Federal Railroad Administration (FRA) for an extension of their waiver of compliance from certain provisions of the Federal hours of service laws contained at 49 U.S.C. 21103(a)(4). FRA assigned the petition Docket Number FRA-2009-0074.

In their petition, CN, BLET, and SMART seek relief from 49 U.S.C. 21103(a)(4), which, in part, requires a train employee to receive 48 hours off duty after initiating an on-duty period for 6 consecutive days. Specifically, CN, BLET, and SMART seek a waiver to allow a train employee to initiate an on-duty period, each day, for 6 consecutive days followed by 24 hours off duty. In support of the request, CN, BLET, and SMART explained that CN has operated these schedules of 6 consecutive on-duty periods followed by 24 hours off duty successfully since 2002. CN, BLET, and SMART indicate that these schedules have not had an adverse impact on safety.

CN provided work schedules for the employees covered by the waiver, which shows them reporting for work within pre-set 4-hour calling spreads with a regular rest day. CN also provided an analysis of the most current 12-month period of train-employee on-duty human factor-related accidents and injuries. CN indicates that its analyses revealed that of the 22 human factor-related accidents involving CN employees in the preceding 12 months, none involved employees covered under the waiver working 6 consecutive days followed by 24 hours off duty. Finally, CN said that all employees covered by the waiver were provided information about the waiver extension petition, and that there were no objections to the waiver extension by these employees.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by January 20, 2015 will be considered by FRA before final action is taken. Comments received after that date will be considered as far as practicable.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be viewed at www.dot.gov/privacy. See also http://www.regulations.gov/#!privacyNotice for the privacy notice of regulations.gov.

Issued in Washington, DC, on December 1, 2014.
Ron Hynes,
Director, Office of Technical Oversight.

[FR Doc. 2014-28518 Filed 12-4-14; 8:45 am]

BILLING CODE 4910-06-P